ENVIRONMENTAL PROTECTION AGENCY

[FRL-8531-3]

Public Water System Supervision Program Variance and Exemption Review for the State of Colorado

AGENCY: Environmental Protection Agency (EPA).

ACTION: Notice of Results of Review.

SUMMARY: The Environmental Protection Agency (EPA) Region 8 has completed its statutory review of variances and exemptions issued by the State of Colorado under the Safe Drinking Water Act (SDWA) Public Water System Supervision (PWSS) program. This review was announced in the Federal Register published September 25, 2007, 72 FR 54445, and provided the public with an opportunity to comment. No comments related to Variances and/or Exemptions issued or proposed by the State of Colorado were received.

The Environmental Protection Agency (EPA) Region 8 determined as a result of this review that the State of Colorado did not abuse its discretion on any variance or exemption granted or proposed as of the date of the on site review on September 25, 2007.

FOR FURTHER INFORMATION CONTACT: Jack Theis at 303-312-6347 or e-mail at Theis.Jack@epa.gov.

SUPPLEMENTARY INFORMATION: Colorado has an EPA approved program for assuming primary enforcement authority for the PWSS program, pursuant to section 1413 of SDWA, 42 U.S.C. 300g-2 and 40 CFR Part 142.

A. Why do States issue variances and exemptions?

States with primary PWSS enforcement authority are authorized to grant variances and exemptions from National Primary Drinking Water Regulations due to particular situations with specific public water systems providing these variances and exemptions meet the requirements of SDWA, Sections 1415 and 1416, and are protective of public health.

B. Why is a review of the variances and exemption necessary?

Colorado is authorized to grant variances and exemptions to drinking water systems in accordance with the SDWA. The SDWA requires that EPA periodically review State issued variances and exemptions to determine compliance with the Statute. 42 U.S.C. 300g-4(e)(8); 42 U.S.C. 300g-5(d).

Dated: December 19, 2007.
Kerrigan G. Clough,
Deputy Regional Administrator, Region 8.

Editorial Note: This document was received at the Office of the Federal Register on February 15, 2008.

[FR Doc. E8-3236 Filed 2-20-08; 8:45 am]

BILLING CODE 6560-50-P